SECURITIES AND EXCHANGE COMMISSION

[Release No. IC-27384]

Notice of Applications for Deregistration Under Section 8(f) of the Investment Company Act of 1940

May 26, 2006.

The following is a notice of applications for deregistration under section 8(f) of the Investment Company Act of 1940 for the month of May, 2006. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on June 20, 2006, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE., Washington, DC 20549-1090.

For Further Information Contact: Diane L. Titus at (202) 551-6810, SEC, Division of Investment Management, Office of Investment Company Regulation, 100 F Street, NE., Washington, DC 20549-4041.

Hyperion 2005 Investment Grade Opportunity Term Trust, Inc. [File No. 811-7386]

Summary: Applicant, a closed-end investment company, seeks an order declaring that it has ceased to be an investment company. On December 5, 2005, applicant made a liquidating distribution to its shareholders, based on net asset value. American Stock Transfer & Trust Company is holding funds for shareholders who have not yet been located. Applicant incurred $415,495 in expenses in connection with the reorganization.

Filing Date: The application was filed on April 25, 2006.

Applicant's Address: Three World Financial Center, 200 Vesey St., 10th Floor, New York, NY 10281-1010.

Oppenheimer Principal Protected Trust IV [File No. 811-21562]

Summary: Applicant seeks an order declaring that it has ceased to be an investment company. On April 13, 2006, applicant made a liquidating distribution to its shareholders, based on net asset value. Expenses of $2,500 incurred in connection with the liquidation were paid by Oppenheimer Funds, Inc., applicant's investment adviser.

Filing Date: The application was filed on April 21, 2006.

Applicant's Address: 6803 Tucson Way, Centennial, CO 80112.

Grand Prix Funds, Inc. [File No. 811-8461]

Summary: Applicant seeks an order declaring that it has ceased to be an investment company. On February 17, 2006, applicant made a liquidating distribution to its shareholders, based on net asset value. Applicant incurred $41,188 in expenses in connection with the liquidation. Target Investors, Inc., applicant's investment adviser, will pay any additional expenses incurred in connection with the liquidation.

Filing Date: The application was filed on May 1, 2006.

Applicant's Address: Wilton Executive Campus, 15 River Road, Suite 220, Wilton, CT 06897.

UM Investment Trust II [File No. 811-21679]

Summary: Applicant, a closed-end investment company, seeks an order declaring that it has ceased to be an investment company. Applicant has never made a public offering of its securities and does not propose to make a public offering or engage in business of any kind.

Filing Dates: The application was filed on April 7, 2006, and amended on May 18, 2006.

Applicant's Address: 522 Fifth Ave., New York, NY 10036.

Weldon Capital Funds Inc. [File No. 811-21509]

Summary: Applicant seeks an order declaring that it has ceased to be an investment company. On February 28, 2006, applicant made a liquidating distribution to its shareholders, based on net asset value. Expenses of $20,529 incurred in connection with the liquidation were paid by applicant's investment adviser, Weldon Capital Management, Ltd.

Filing Dates: The application was filed on April 11, 2006, and amended on May 8, 2006.

Applicant's Address: 4747 W. 135th St., Suite 100, Leawood, KS 66224.

JPMorgan Securities Lending Collateral Investment Trust [File No. 811-21581]

Summary: Applicant seeks an order declaring that it has ceased to be an investment company. By August 25, 2005, all of applicant's shareholders had redeemed their shares at net asset value. No expenses were incurred in connection with the liquidation.

Filing Dates: The application was filed on February 13, 2006, and amended on April 28, 2006.

Applicant's Address: 522 Fifth Ave., New York, NY 10036.

Van Kampen California Municipal Trust [File No. 811-5662]

Summary: Applicant, a closed-end investment company, seeks an order declaring that it has ceased to be an investment company. On December 5, 2005, applicant transferred its assets to Van Kampen California Value Municipal Income Trust, based on net asset value. Applicant's preferred shares had liquidation preference of $50,000 per share and the preferred shares of the acquiring fund have a liquidation preference of $25,000 per share, so the preferred shares of applicant were converted into preferred shares of the acquiring fund on a one-for-two basis. Expenses of $217,083 incurred in connection with the reorganization were paid by applicant and the acquiring fund.

Filing Dates: The application was filed on March 20, 2006, and amended on May 15, 2006.

Applicant's Address: 1221 Avenue of the Americas, New York, NY 10020.

Van Kampen California Quality Municipal Trust [File No. 811-6361] Van Kampen Trust for Investment Grade California Municipals [File No. 811-6535]

Summary: Each applicant, a closed-end investment company, seeks an order declaring that it has ceased to be an investment company. On July 29, 2005, each applicant transferred its assets to Van Kampen California Value Municipal Income Trust, based on net asset value. Each applicant's preferred shares were converted into preferred shares of the acquiring fund on a one-for-one basis. Expenses of $76,413 and $227,503, respectively, incurred in connection with the reorganizations were paid by the applicants and the acquiring fund.

Filing Dates: The applications were filed on March 20, 2006, and amended on May 15, 2006.

Applicants' Address: 1221 Avenue of the Americas, New York, NY 10020.

Wayne Hummer Investment Trust [File No. 811-3880]

Summary: Applicant seeks an order declaring that it has ceased to be an investment company. On March 24, 2006, applicant transferred its assets to Federated Kaufmann Fund, a series of Federated Equity Funds, based on net asset value. Expenses of $276,593 incurred in connection with the reorganization were paid by Wayne Hummer Asset Management Company, applicant's investment adviser, and Federated Investors, Inc., an affiliate of the acquiring fund's investment adviser.

Filing Dates: The application was filed on March 29, 2006, and amended on May 18, 2006.

Applicant's Address: 300 South Wacker Dr., Suite 1500, Chicago, IL 60606.

BAT Subsidiary Inc. [File No. 811-8951]

Summary: Applicant, a closed-end investment company, seeks an order declaring that it has ceased to be an investment company. On November 29, 2005, applicant made a liquidating distribution to its shareholders, based on net asset value. Applicant incurred no expenses in connection with the liquidation.

Filing Date: The application was filed on May 15, 2006.

Applicant's Address: 100 Bellevue Parkway, Wilmington, DE 19809.

TD Waterhouse Plus Funds, Inc. [File No. 811-7871]

Summary: Applicant seeks an order declaring that it has ceased to be an investment company. On February 24, 2006, applicant transferred its assets to TDAM Money Market Portfolio Premium Class, a series of TD Asset Management USA Funds Inc., based on net asset value. Expenses of $66,291 incurred in connection with the reorganization were paid by TD Asset Management USA Inc., applicant's investment adviser, or one of its affiliates.

Filing Date: The application was filed on May 10, 2006.

Applicant's Address: c/o TD Asset Management USA Inc., 31 West 52nd St., 21st Floor, New York, NY 10019.

Partners Balanced Trust [File No. 811-21270]

Summary: Applicant, a closed-end investment company, seeks an order declaring that it has ceased to be an investment company. On November 18, 2005, applicant made a liquidating distribution to its shareholders, based on net asset value. Expenses of $18,500 incurred in connection with the liquidation were paid by BlackRock Advisors, Inc., applicant's investment adviser.

Filing Date: The application was filed on May 15, 2006.

Applicant's Address: 100 Bellevue Parkway, Wilmington, DE 19809.

True Funds [File No. 811-21588]

Summary: Applicant seeks an order declaring that it has ceased to be an investment company. Applicant has never made a public offering of its securities and does not propose to make a public offering or engage in business of any kind.

Filing Dates: The application was filed on March 30, 2006, and amended on May 4, 2006.

Applicant's Address: 5455 Corporate Dr., Suite 204, Troy, MI 48098.

Lord Abbett Delta Fund [File No. 811-10177]

Summary: Applicant seeks an order declaring that it has ceased to be an investment company. Applicant has never made a public offering of its securities and does not propose to make a public offering or engage in business of any kind.

Filing Dates: The application was filed on March 27, 2006, and amended on May 18, 2006.

Applicant's Address: 90 Hudson St., Jersey City, NJ 07302.

North American Separate Account VAI [File No. 811-21426]

Summary: Applicant seeks an order declaring that it has ceased to be an investment company. Applicant requests deregistration based on abandonment of registration. Applicant is not now engaged, or intending to engage, in any business activities, other than those necessary for winding up its affairs.

Filing Date: The application was filed on April 20, 2006.

Applicant's Address: North American Company for Life & Health Insurance of New York, 990 Stewart Avenue, Garden City, New York 11530.

For the Commission, by the Division of Investment Management, pursuant to delegated authority.
J. Lynn Taylor,
Assistant Secretary.

[FR Doc. E6-8548 Filed 6-1-06; 8:45 am]

BILLING CODE 8010-01-P